DEPARTMENT OF JUSTICE

Notice of Lodging of Settlement Agreement Under the Comprehensive Environmental Response, Compensation and Liability Act

Under 28 CFR 50.7, notice is hereby given that on March 19, 2004, a motion to approve a proposed Settlement Agreement was filed in the United States Bankruptcy Court for the District of Nevada in In re Washington Group, International, Inc., et al., Case No. BK-N-01-31627 (Bankr. D. Nev.). The Court's action on the proposed Agreement is subject to the United States' determination whether to proceed with the Agreement following any public comment on its terms. Further, the proposed Agreement is subject to the notice provisions of Rule 9019(a) of the Federal Rules of Bankruptcy Procedure.

The United States filed a proof of claim in the above bankruptcy seeking reimbursement for response costs expended by the United States Department of Agriculture, Forest Service, under Section 104 of the Comprehensive Environmental Response, Compensation and Liability Act (“CERCLA”), 42 U.S.C. 9604, to investigate releases of selenium from four reclaimed phosphate mines located in southeastern Idaho—the North Maybe, South Maybe, Champ and Mountain Fuel Mines (“the Mines”). In its proof of claim, the United States included an unliquidated claim for compensation for CERCLA response costs which the Forest Service anticipates incurring at the Mines. The Forest Service expects to incur, among other potential expenses, additional investigative costs and the costs of abating selenium releases, including releases into pit lakes, seeps and streams, and the uptake of selenium into forage grasses and other plants. Releases of selenium from the Mines have caused the deaths of domestic animals and may endanger wildlife. Under the proposed Agreement, the United States will be awarded an allowed general unsecured claim against Washington Group International, Inc. and affiliated debtors in the amount of $30 million. In addition, the United States will receive payments from two insurance companies totaling $4.5 million.

As is typical, the proposed Agreement provides contribution protection to the settling parties. In addition, through the motion to approve the Agreement, the reorganized debtors and the Plan Committee ¹ are seeking an injunction which would preclude any and all persons and entities from asserting claims against the settling insurers that arise out of or relate to the Policies and relate to the Sites.

¹ Formally known as the Plan Committee in Bankruptcy Case No. 01-31627-GWZ, before the Bankruptcy Court for the District of Nevada.

The Department of Justice will receive comments relating to the proposed Settlement Agreement during a period ending April 14, 2004. Comments must be received by that date. If sent by U.S. Mail, comments must be addressed to the Assistant Attorney General for the Environmental and Natural Resources Division, P.O. Box 7611, U.S. Department of Justice, Washington, DC 20044-7611. Any comments sent by a delivery service other than U.S. Mail must be addressed to the Assistant Attorney General for the Environment and Natural Resources Division, in care of Chief, Environmental Enforcement Section, Room 13073, 1425 New York Avenue, NW., Washington, DC 20005. Comments should refer to In re Washington Group International, et al., DOJ Ref. #90-11-2-07499/1.

The proposed Settlement Agreement may be examined at the office of the United States Attorney, District of Nevada, 100 West Liberty Street, Suite 600, Reno, Nevada 89501 and the U.S. Department of Agriculture, Pacific Region—Portland Office, 1220 SW. Third Avenue, Room 1734, Portland, OR 97204-2825. During the public comment period, the proposed Settlement Agreement may also be examined on the following Department of Justice Web site, http://www.usdoj.gov/enrd/open.html. A copy of the proposed Settlement Agreement may be obtained by mail from the Consent Decree Library, PO Box 7611, U.S. Department of Justice, Washington, DC 20044-7611 or by telefaxing or e-mailing a request to Tonia Fleetwood (tonia.fleetwood@usdoj.gov), telefax no. (202) 514-0097, phone confirmation number (202) 514-1547. The Agreement, without exhibits, consists of 18 pages. Including Exhibits A and B, the Agreement consists of 30 pages. Exhibit C is a voluminous exhibit consisting of ten insurance policies. Copies of the insurance policies may be obtained by calling David Street at (202) 514-5471. In requesting copies of the Agreement, specify whether copies of exhibits are sought and include a check in the appropriate amount (25 cents per page reproduction cost) for In re Washington Group International, Inc., et al., payable to the U.S. Treasury.

Robert E. Maher, Jr.,
Assistant Chief, Environmental Enforcement Section, Environment and Natural Resources Division.

[FR Doc. 04-6763 Filed 3-25-04; 8:45 am]

BILLING CODE 4410-15-M